DEPARTMENT OF ENERGY

Federal Energy Regulatory Commission

[Docket No. EC05-1-000, et al.]

Old Dominion Electric Cooperative, et al.; Electric Rate and Corporate Filings

October 7, 2004.

The following filings have been made with the Commission. The filings are listed in ascending order within each docket classification.

1. Old Dominion Electric Cooperative and New Dominion Energy Cooperative; New Dominion Energy Cooperative

[Docket Nos. EC05-1-000 and ER05-18-000]

Take notice that on October 5, 2004, Old Dominion Electric Cooperative (Old Dominion) and New Dominion Energy Cooperative (New Dominion) (together, the Parties) filed a joint application under sections 203 and 205 of the Federal Power Act and sections 33.2 through 33.4 and 35.12 of the Commission's Rules and Regulations, for approval of Old Dominion's proposed assignment of its Wholesale Power Contracts (Contracts) to New Dominion, New Dominion's request for acceptance of conforming changes to the formulary rate applied under the Contracts and New Dominion's request for authority to make wholesale power sales at market-based rates. Submitted for filing were New Dominion Energy Cooperative FERC Electric Tariffs Original Volume Nos. 1 and 2, providing for cost-of-service rates under a rate formula in Volume No. 1 and market-based rates in Volume No. 2.

The Parties state that copies of the filing was served upon each of the Member Cooperatives and the public service commissions in the Commonwealth of Virginia and the states of Delaware, Maryland and West Virginia.

Comment Date: 5 p.m. Eastern Time on October 26, 2004.

2. PowerMinn 9090, LLC

[Docket No. EG05-1-000]

Take notice that on October 1, 2004, PowerMinn 9090, LLC (PowerMinn) with a principal place of business at 2295 Corporate Blvd., NW., Suite 222, Boca Raton, Florida 33431, filed with the Commission an Application for Determination of Exempt Wholesale Generator Status pursuant to part 365 of the Commission's regulations in connection with PowerMinn's intended ownership in a new 50 MW (nominal) biomass generating facility to be constructed in the City of Benson, Minnesota that is to be leased and operated by Fibrominn LLC.

Comment Date: 5 p.m. Eastern Time on October 22, 2004.

3. Washington LLC, on Behalf of Skookumchuck Dam, LLC

[Docket No. EG05-2-000]

On October 1, 2004, 2677588 Washington LLC (Washington LLC), on behalf of Skookumchuck Dam, LLC, filed with the Commission an application for determination of exempt wholesale generator (EWG) status pursuant to part 365 of the Commission's regulations with respect to its ownership and operation of a 1 MW hydroelectric generating plant located in the vicinity of Centralia, Washington. Washington LLC states that copies of the application were sent to the Securities and Exchange Commission and the Oregon Public Utility Commission, the Washington Utilities and Transportation Commission, the California Public Utilities Commission, the Wyoming Public Service Commission, the Idaho Public Utility Commission, and the Utah Public Service Commission.

Comment Date: 5 p.m. Eastern Time on October 22, 2004.

4. PEI Power Corp.

[Docket No. ER98-2270-004]

Take notice that on October 1, 2004, PEI Power Corp. (PEI) submitted an amendment to its triennial updated market power analysis. PEI states that this analysis supports the continuation of PEI's authority to make sales at market-based rates. PEI also submits revisions to its market-based rate tariff, which update the tariff and incorporate the Commission's Market Behavior Rules adopted in Docket No. EL01-118-000.

Comment Date: 5 p.m. Eastern Time on October 22, 2004.

5. Consumers Energy Company

[Docket No. ER98-4421-004]

CMS Energy Resource Management Company

[Docket No. ER96-2350-024]

Grayling Generating Station Limited

[Docket No. ER99-791-002]

Partnership Tennessee Power Station Limited Partnership

[Docket No. ER99-806-001]

CMS Generation Michigan Power, L.L.C.

[Docket No. ER99-3677-003]

Dearborn Industrial Generation, L.L.C.

[Docket No. ER01-570-004]

Take notice that on October 1, 2004, Consumers Energy Company (Consumers, CMS Energy Resource Management Company (CMS ERM), Grayling Generating Station Limited Partnership (Grayling), Genesee Power Station Limited Partnership (Genesee), CMS Generation Michigan Power, L.L.C. (Michigan Power), and Dearborn Industrial Generation, L.L.C. (DIG) (collectively, Consumers and the MI Affiliates) submitted a consolidated revised generation market analysis as required by the Commission in its May 13, 2004 Order Implementing New Generation Market Power Analysis and Mitigation Procedures (107 FERC ¶ 61,168) and in response to an informal request by FERC Staff. Consumers and the MI Affiliates state that this consolidated revised generation market power analysis filing is intended to supercede and replace the individual revised generation market power analysis filings made by Consumers and the MI Affiliates on August 11, 2004 (Consumers); August 12, 2004 (CMS ERM, Michigan Power and DIG) and September 8, 2004 (Grayling and Genesee).

Consumers and the MI Affiliates state that a copy of the filing was served upon the Michigan Public Service Commission and those on the official service list in each of the captioned dockets.

Comment Date: 5 p.m. Eastern Time on October 15, 2004.

6. Pacific Gas and Electric Company

[Docket No. ER04-415-002]

Take notice that on October 1, 2004, Pacific Gas and Electric Company (PG&E) tendered for filing an amendment to its January 20, 2004 filing as Amended on April 15, 2004 of a Generator Special Facilities Agreements (GSFAs) and Generator Interconnection Agreements (GIAs) with Berry Petroleum Company—Tannehill Cogen (Berry Tannehill), Berry Petroleum Company—University Cogen (Berry University), and Big Creek Water Works, Ltd. (Big Creek). PG&E states that this filing is intended to replace the April 15, 2004 filing in its entirety.

PG&E states that copies of this filing have been served upon Berry Tannehill, Berry University, Big Creek, the California Independent System Operator Corporation, the California Public Utilities Commission, and the parties to this docket.

Comment Date: 5 p.m. Eastern Time on October 22, 2004.

7. Mystic I, LLC; Mystic Development, LLC and Fore River Development, LLC

[Docket Nos. ER04-657-003, ER04-660-003, and ER04-659-003]

Take notice that on October 1, 2004, Boston Generating, LLC on behalf of its three projects companies Mystic I, LLC, Mystic Development, LLC and Fore River Development, LLC submitted for filing a joint Triennial Updated Market Analysis.

Comment Date: 5 p.m. Eastern Time on October 22, 2004.

8. Southern California Edison Company

[Docket No. ER04-724-002]

Take notice that, on October 1, 2004, Southern California Edison (SCE) submitted a compliance filing pursuant to the Commission's Order issued September 2, 2004 in Docket Nos. ER04-724-000 and 001, Approving Uncontested Settlement, 108 FERC ¶ 61,218.

SCE states that copies of the filing were served on parties on the official service list in the above-captioned proceeding.

Comment Date: 5 p.m. Eastern Time on October 22, 2004.

9. Virginia Electric and Power Company

[Docket No. ER04-834-001]

Take notice that on October 1, 2004, Virginia Electric and Power Company, (Dominion Virginia Power) submitted a compliance filing pursuant to the Commission's order issued September 16, 2004 in Docket No. ER04-834-001, 108 FERC ¶ 61,242.

Comment Date: 5 p.m. Eastern Time on October 22, 2004.

10. Niagara Mohawk Power Corporation, a National Grid Company

[Docket No. ER05-1-000]

Take notice that on October 1, 2004, Niagara Mohawk Power Corporation, a National Grid Company (Niagara Mohawk) tendered for filing pursuant to section 35.15 of the Commission's regulations, 18 CFR 35.15 (2003), a Notice of Cancellation No. 313. Niagara Mohawk requests an effective date of October 31, 2004.

Niagara Mohawk states that it served copies of the Notice of Cancellation upon the customer receiving service under Rate Schedule No. 313, AES-NY, L.L.C., as well as upon the New York Independent System Operator and the New York Public Service Commission.

Comment Date: 5 p.m. Eastern Time on October 22, 2004.

11. Central Maine Power Company

[Docket No. ER05-2-000]

Please take notice that on October 1, 2004, Central Maine Power Company (CMP) submitted an Executed Local Network Transmission Service Agreement and an Executed Long Term Firm Point-to-Point Transmission Service Agreement between CMP and FPL Energy Maine Hydro, LLC, which replace unexecuted transmission service agreements filed with and accepted by the Commission in Docket No. ER00-209-4000. These executed transmission service agreements are designated as (1) Local Network Transmission Service Agreement: FERC Electric Tariff, Fifth Revised, Vol. No. 3, 1st Revised Service Agreement No. 207, effective December 23, 2003; and (2) Long Term Firm Point-to-Point Transmission Service Agreement: FERC Electric Tariff, Fifth Revised, Vol. No. 3, 1st Revised Service Agreement No. 208, effective December 23, 2003.

Comment Date: 5 p.m. Eastern Time on October 22, 2004.

12. New England Power Pool

[Docket No. ER05-3-000]

Take notice that on October 1, 2004, the New England Power Pool (NEPOOL) Participants Committee submitted the One Hundred Eighth Agreement Amending New England Power Pool Agreement (108th Agreement) which amends the NEPOOL Tariff in order to reduce to zero the Through or Out service charge for transactions through or out of NEPOOL that have the New York control area boundary as their point of delivery. NEPOOL requests an effective date of December 1, 2004.

NEPOOL Participants Committee and ISO-NE state that copies of these materials were sent to the NEPOOL Participants and the New England state governors and regulatory commissions.

Comment Date: 5 p.m. Eastern Time on October 22, 2004.

13. New England Power Pool

[Docket No. ER05-4-000]

Take notice that on October 1, 2004, the New England Power Pool (NEPOOL) Participants Committee filed for acceptance materials to (1) permit NEPOOL to expand its membership to include Citigroup Energy Inc. (Citigroup Energy) and Merrill Lynch Commodities, Inc. (MLC); and (2) to terminate the membership of Conectiv Energy Supply, Inc. (Conectiv). NEPOOL Participants Committee requests effective dates of September 1, 2004 for the termination of Conectiv; November 1, 2004 for commencement of participation in NEPOOL by MLC; and December 1, 2004 for the commencement of participation in NEPOOL by Citigroup Energy.

NEPOOL Participants Committee states that copies of these materials were sent to the New England state governors and regulatory commissions and the Participants in NEPOOL.

Comment Date: 5 p.m. Eastern Time on October 22, 2004.

14. Virginia Electric and Power Company

[Docket No. ER05-7-000]

Take notice that on October 1, 2004, Virginia Electric and Power Company (Dominion Virginia Power) tendered for filing a Service Agreement for Network Integration Transmission Service (Retail) and Network Operating Agreement (Retail) by Dominion Virginia Power to Dominion Retail, Inc., designated as Service Agreement Number 389, under the Company's Open Access Transmission Tariff, FERC Electric Tariff, Second Revised Volume No. 5, to Eligible Purchasers dated June 7, 2000. Dominion Virginia Power requests an effective date of November 1, 2004.

Comment Date: 5 p.m. Eastern Time on October 22, 2004.

15. MidAmerican Energy Company

[Docket No. ER05-8-000]

Take notice that on October 1, 2004, MidAmerican Energy Company (MEC) tendered for filing Notices of Cancellation of (1) Electric Service Agreement under FERC Wholesale Electric Tariff Original Volume No. 1 filed by MEC's predecessor, Iowa-Illinois Gas and Electric Company (IIGE), dated November 16, 1976 (Buffalo ESA) between IIGE and the City of Buffalo, Iowa; and (2) Electric Service Agreement under FERC Wholesale Electric Tariff Original Volume No. 1 filed by IIGE, dated November 1, 1976 (Callender ESA) between IIGE and the City of Callender, Iowa. MEC requests an effective date of December 31, 2004.

Comment Date: 5 p.m. Eastern Time on October 22, 2004.

16. New England Power Pool

[Docket No. ER05-9-000]

Take notice that on October 1, 2004, the New England Power Pool (NEPOOL) Participants Committee filed for acceptance of changes to NEPOOL Market Rule 1 and Appendix F affecting the eligibility for Operating Reserve Credits. NEPOOL Participants Committee requests an effective date of December 1, 2004.

NEPOOL Participants Committee states that copies of these materials were sent to the New England state governors and regulatory commissions and the Participants in NEPOOL.

Comment Date: 5 p.m. Eastern Time on October 22, 2004.

17. PJM Interconnection, L.L.C.

[Docket No. ER05-10-000]

Take notice that on October 1, 2004, PJM Interconnection, L.L.C. (PJM) filed for a change in rates to permit market-based offers in the expanded PJM market for regulation service in the portion of the PJM region covered by the geographic territories of Allegheny Power, American Electric Power Company (AEP), Commonwealth Edison Company (including Commonwealth Edison Company of Indiana) (ComEd), The Dayton Power and Light Company (Dayton), Dusquesne Light Company (Dusquesne), and Virginia Electric Power Company (Virginia Power).

PJM states that copies of the filing were served upon all PJM Members including Allegheny Power, AEP, ComEd, Dayton, Dusquesne, and Virginia Power, and each state electric utility regulatory commission in the PJM region.

Comment Date: 5 p.m. Eastern Time on October 22, 2004.

18. PJM Interconnection, L.L.C.

[Docket No. ER05-11-000]

Take notice that on October 1, 2004, PJM Interconnection, L.L.C. (PJM), submitted for filing a revised Attachment L to PJM's Open Access Transmission Tariff. PJM states that the proposed changes to Attachment L are required to reflect recent changes, in the status of Rock Springs Generation, L.L.C. and CED Rock Springs, Inc., two of the PJM Transmission Owners listed on the currently effective Attachment L. PJM requests an effective date of October 4, 2004.

PJM states that copies of this filing were served upon all members of PJM and the state electric utility regulatory commissions within the PJM region.

Comment Date: 5 p.m. Eastern Time on October 22, 2004.

19. PJM Interconnection, L.L.C.

[Docket No. ER05-12-000]

Take notice that on October 1, 2004, PJM Interconnection, L.L.C. (PJM) submitted for filing amendments to the PJM Open Access Transmission Tariff to make miscellaneous minor modifications, improvements, and clarifications to the PJM Credit Policy and related Tariff provisions. PJM requests an effective date of December 1, 2004.

PJM states that copies of this filing have been served on all PJM members and the utility regulatory commissions in the PJM region.

Comment Date: 5 p.m. Eastern Time on October 22, 2004.

20. Sierra Pacific Resources Operating Companies

[Docket No. ER05-14-000]

Take notice that on October 1, 2004, Sierra Pacific Resources Operating Companies, on behalf of Sierra Pacific Power Company and Nevada Power Company (together, SPR) submitted a change in the rates for transmission services under SPR's open-access transmission tariff, FERC Third Revised Volume No. 1. SPR states that this rate change affects Zone A transmission rates only, those pertaining to the transmission system of SPR's wholly-owned subsidiary Sierra Pacific Power Company (SPP).

SPR states that copies of the filing were served on SPR's jurisdictional customers and the public utility commissions of Nevada and California.

Comment Date: 5 p.m. Eastern Time on October 22, 2004.

21. East Kentucky Power Cooperative, Inc.

[Docket No. TX05-1-000]

Take notice that on October 1, 2004, East Kentucky Power Cooperative, Inc. (EKPC) submits an application for an order requiring the Tennessee Valley Authority (TVA) to interconnect the TVA transmission System with EKPC's transmission system pursuant to sections 210 and 212 of the Federal Power Act.

Comment Date: 5 p.m. Eastern Time on November 1, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Magalie R. Salas,
Secretary.

[FR Doc. E4-2989 Filed 11-2-04; 8:45 am]

BILLING CODE 6717-01-P